DEPARTMENT OF EDUCATION

[Docket No.: ED-2025-SCC-0006]

Agency Information Collection Activities; Submission to the Office of Management and Budget for Review and Approval; Comment Request; Program for International Student Assessment 2025 (PISA 2025) Main Study

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before February 18, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for International Student Assessment 2025 (PISA 2025) Main Study.

OMB Control Number: 1850-0755.

Type of Review: A revision of a currently approved ICR.

Respondents/Affected Public: Individuals and Households. Total Estimated Number of Annual Responses: 59,087.

Total Estimated Number of Annual Burden Hours: 19,041.

Abstract: The Program for International Student Assessments (PISA) is an international assessment of 15-year-olds which focuses on assessing students' reading, mathematics, and science literacy. PISA was first administered in 2000 and is conducted every three years. The ninth cycle of the study, PISA 2025, is being administered at a time when interest is increasing, both worldwide and in the United States, in how well schools are preparing students to meet the challenges of the future, and how the students perform compared with their peers in other education systems of the world. Approximately 85 education systems, including the U.S., are expected to participate in 2025. The U.S. has participated in all previous cycles and is participating in 2025 in order to track trends and to compare the performance of U.S. students with that in other education systems. PISA 2025 is sponsored by the Organization for Economic Cooperation and Development (OECD). In the U.S., PISA 2025 is conducted by the National Center for Education Statistics (NCES) of the Institute of Education Sciences (IES), U.S. Department of Education. PISA is a collaboration among the participating countries, the OECD, and a group of international organizations each under contract to the OECD (hereafter referred to as the PISA International Consortium).

In each administration of PISA, one of the subject areas (reading, mathematics, or science literacy) is the major domain and has the broadest content coverage, while the other two subjects are the minor domains. Science literacy will be the major domain in PISA 2025. Other areas may also be assessed, such as, in the case of PISA 2025, Learning in a Digital World (LDW), which will be an innovative domain in 2025. PISA assesses students' knowledge and skills gained both in and out of school environments. The focus on the “yield” of education in and out of school makes it different from other international assessments such as the Trends in International Mathematics and Science Study (TIMSS) and the Progress in International Reading Literacy Study (PIRLS), which are closely tied to school curriculum frameworks and assess younger and grade-based populations.

Like previous rounds of PISA in 2015, 2018, and 2022, in PISA 2025 the entire assessment and the questionnaires will be administered on computer. In addition to the cognitive assessments, PISA 2025 will include questionnaires administered to school principals and assessed students. The school questionnaire will be delivered online. The school and student questionnaires are core components of PISA and as such are required for all participating countries. The teacher questionnaire, which is optional and was administered in previous rounds (2015 and 2018), will not be administered in 2025 because the U.S. has deemed the resulting data inadequate for analyses due to the lack of weights for the teacher data.

To prepare for the main study in 2025, PISA countries conducted a field test in the spring of 2024, primarily to evaluate newly developed assessment and questionnaire items but also to test the assessment operations. The PISA 2025 field test data collection occurred in the U.S.A. March-April 2024 and the main study data collection will take place September-November 2025. This submission requests approval for all final materials associated with recruitment and data collection activities related to the PISA 2025 main study and is accompanied by a notice published in the Federal Register allowing a 30-day public comment period on the final details of the PISA 2025 main study data collection. In order to conduct the main study by March 2025, we are submitting this 30D revision with the final main study student video (Appendix A-2) and final school and student questionnaires (Appendix C-2), as well as refined details about changes to the design and procedures for the main study (Parts A & B).

Dated: January 14, 2025.
Stephanie Valentine,
PRA Coordinator, Strategic Collections and Clearance, Governance and Strategy Division, Office of Chief Data Officer, Office of Planning, Evaluation and Policy Development.

[FR Doc. 2025-01202 Filed 1-16-25; 8:45 am]

BILLING CODE 4000-01-P